DEPARTMENT OF AGRICULTURE

National Agricultural Library

Notice of Intent To Seek Approval To Collect Information

AGENCY: USDA, Agricultural Research Service, National Agricultural Library.

ACTION: Notice and request for comments.

SUMMARY: In accordance with the Paperwork Reduction Act of 1995 (Pub. L. 104-13) and Office of Management and Budget (OMB) regulations at 5 CFR Part 1320 (60 FR 44978, August 29, 1995), this notice announces the National Agricultural Library's intent to request approval for new information collection relating to nutrition education materials (cookbooks and recipes) targeting low-income persons. This voluntary form gives Food Stamp nutrition education providers the opportunity to provide valuable feedback on resources that they have used.

DATES: Comments on this notice must be received by February 22, 2005 to be assured of consideration.

ADDRESSES: Address all comments concerning this notice to Shannon Fries, Technical Information Specialist, Food and Nutrition Information Center, National Agricultural Library, 10301 Baltimore Avenue, Beltsville, MD, 20705-2351, telephone (301) 504-5368 or fax (301) 504-6409. Submit electronic comments to sfries@nal.usda.gov.

SUPPLEMENTARY INFORMATION: Title: Food Stamp Nutrition Connection Recipe Review Form.

OMB Number: PRA#.

Expiration Date: Three years from date of approval.

Type of Request: New data collection from Food Stamp nutrition education providers.

Abstract: The National Agricultural Library's Food Stamp Nutrition Connection (FSNC) http://www.nal.usda.gov/foodstamp/ resource system has developed an on-line recipe database, the Recipe Finder, as an added feature to the FSNC Web site to be launched in the Fiscal Year 2005. The purpose of the recipe database is to provide our target audience, Food Stamp Program nutrition educators, with low-cost, easy to prepare, healthy recipes for classes and demonstrations with Food Stamp Program participants.

We rely on these same educators to submit their best recipes to us for review, analysis and posting in the database. Data collected using this form will help identify the success or value of the nutrition education and budgeting tool with Food Stamp Program participants.

The proposed voluntary “FSNC Recipe Review Form” would allow Food Stamp Program nutrition education providers the opportunity to review recipes on-line for the purposes of ensuring that only high quality information remain in the database. Based on responses generated from this form, FSNC staff will then be able to display recipes in priority order form highest rating to lowest. This will also provide an interactive component for educators to use on the FSNC Web site.

Estimate of Burden: Public reporting burden for this collection of information is estimated to average 7 minutes per response.

Respondents: Food Stamp nutrition education providers

Estimated Number of Respondents: 150 per year.

Estimated Total Annual Burden on Respondents: 17.5 hrs.

Comments: Comments are invited on (a) Whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: December 1, 2004.
Edward B. Knipling,
Administrator, Agricultural Research Service.

[FR Doc. 04-27601 Filed 12-16-04; 8:45 am]

BILLING CODE 3410-03-P